DEPARTMENT OF TRANSPORTATION

Federal Aviation Administration

14 CFR Part 39

[Docket No. 2002-CE-23-AD]

RIN 2120-AA64

Airworthiness Directives; Cessna Aircraft Company Models 208 and 208B Airplanes

AGENCY: Federal Aviation Administration (FAA), DOT.

ACTION: Supplemental notice of proposed rulemaking (NPRM); reopening of the comment period.

SUMMARY: The FAA proposes to revise an earlier NPRM airworthiness directive (AD) action that applies to certain Cessna Aircraft Company (Cessna) Models 208 and 208B airplanes. That proposed AD would have revised AD 2002-22-17, which currently requires you to repetitively inspect the inboard forward flap bellcranks for cracks and eventually replace these bellcranks on all Cessna Models 208 and 208B airplanes. The proposed AD would have provided the option of installing a newly designed bellcrank to increase the life limits and terminate the repetitive inspections. AD 2003-21-04 also requires inspections of the inboard forward flap bellcranks on these airplanes. The FAA has determined that additional inspections of the bellcranks are necessary on Cessna Models 208 and 208B airplanes. We believe that it would be less confusing if all of these actions were in one AD. Therefore, FAA proposes to supersede AD 2002-22-17 and AD 2003-21-04. Since the added actions from AD 2003-21-04 and other proposed inspections impose an additional burden over that proposed in the NPRM, we are reopening the comment period to allow the public the chance to comment on these additional actions.

DATES: We must receive any comments on this proposed AD by May 17, 2004.

ADDRESSES: Use one of the following to submit comments on this proposed AD:

• By mail: FAA, Central Region, Office of the Regional Counsel, Attention: Rules Docket No. 2002-CE-23-AD, 901 Locust, Room 506, Kansas City, Missouri 64106.

• By fax: (816) 329-3771.

• By e-mail: 9-ACE-7-Docket@faa.gov. Comments sent electronically must contain “Docket No. 2002-CE-23-AD” in the subject line. If you send comments electronically as attached electronic files, the files must be formatted in Microsoft Word 97 for Windows or ASCII.

You may get the service information identified in this proposed AD from Cessna Aircraft Company, Product Support, P.O. Box 7706, Wichita, Kansas 67277; telephone: (316) 517-5800; facsimile: (316) 942-9006.

You may view the AD docket at FAA, Central Region, Office of the Regional Counsel, Attention: Rules Docket No. 2002-CE-23-AD, 901 Locust, Room 506, Kansas City, Missouri 64106. Office hours are 8 a.m. to 4 p.m., Monday through Friday, except Federal holidays.

FOR FURTHER INFORMATION CONTACT: Paul Nguyen, Aerospace Engineer, FAA, Wichita Aircraft Certification Office ACO, 1801 Airport Road, Room 100, Wichita, Kansas 67209; telephone: 316-946-4125; facsimile: 816-946-4107.

SUPPLEMENTARY INFORMATION:

Comments Invited

How Do I Comment on This Proposed AD?

We invite you to submit any written relevant data, views, or arguments regarding this proposal. Send your comments to an address listed under ADDRESSES. Include “AD Docket No. 2002-CE-23-AD” in the subject line of your comments. If you want us to acknowledge receipt of your mailed comments, send us a self-addressed, stamped postcard with the docket number written on it. We will date-stamp your postcard and mail it back to you.

Are There Any Specific Portions of This Proposed AD I Should Pay Attention To?

We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Discussion

What Events Have Caused This Proposed AD?

The need to reduce the life limit and repetitively inspect the inboard forward flap bellcrank on Cessna Models 208 and 208A airplanes caused us to issue AD 2002-22-17, Amendment 29-12944 (67 FR 68508, November 12, 2002).

Since FAA issued AD 2002-22-17, Cessna has designed a new flap bellcrank, part number (P/N) 2622311-7, with a life limit of 40,000 landings (instead of 7,000 landings). The new flap bellcrank (P/N 2622311-7) may be substituted for the older flap bellcranks, P/N 2622281-2, 2622281-12, or 2692001-2. Installation of this new flap bellcrank will eliminate the need for repetitive inspections.

Has FAA Taken Any Action to This Point?

We issued a proposal to amend part 39 of the Federal Aviation Regulations (14 CFR part 39) to include an AD that would apply to all Cessna Models 208 and 208B airplanes. This proposal was published in the Federal Register as a notice of proposed rulemaking (NPRM) on July 28, 2003 (68 FR 44252). The NPRM proposed to revise AD 2002-22-17 by proposing a new AD that would:

—Retain the requirements of AD 2002-22-17; and

—Provide the option of installing the 40,000 landings life limit bellcranks.

Was the Public Invited To Comment?

The FAA encouraged interested persons to participate in developing this amendment. We did not receive any comments on the proposed rule or on our determination of the cost to the public.

What Events Have Caused FAA To Issue a Supplemental NPRM?

The FAA recently issued AD 2003-21-04, Amendment 39-13339 (68 FR 59707, October 17, 2003) to require you to immediately inspect certain inboard forward flap bellcranks for cracks, deformation, and missing/incomplete welds. If cracks, deformation, or missing/incomplete welds are found, the AD would require you to immediately replace the flap bellcrank or temporarily incorporate certain flap limitations.

In addition, FAA has identified other bellcranks within the flap system that require inspection. The FAA has determined that all of the inspections and replacements of the bellcranks should be included in one AD. These inspections are referenced in Cessna Caravan Service Bulletin CAB03-11, Revision 1, dated September 24, 2003.

FAA's Determination and Requirements of This Proposed AD

What Has FAA Decided?

After examining the circumstances and reviewing all available information related to the incidents described above, we have determined that:

—The unsafe condition referenced in this document exists or could develop on other Cessna Models 208 and 208B airplanes of the same type design that are on the U.S. registry;

—We should combine the actions of AD 2002-22-17, AD 2003-21-04, and those referenced in Cessna Caravan Service Bulletin CAB03-11, Revision 1, dated September 24, 2003; and

—We should take AD action to correct this unsafe condition.

The Supplemental NPRM

How Will the Changes to the NPRM Impact the Public?

Adding the inspection and replacement requirements from both AD 2003-21-04 and Cessna Caravan Service Bulletin CAB03-11, Revision 1, dated September 24, 2003, goes beyond the scope of what was originally proposed in the NPRM. Therefore, we are reopening the comment period and allowing the public the chance to comment on these additional actions.

What Are the Provisions of the Supplemental NPRM?

The proposed AD would supersede AD 2002-22-17 and AD 2003-21-04 by requiring you to:

—Do all current requirements of AD 2002-22-17;

—Provide the option of installing the 40,000 landings life limit bellcranks;

—Inspect all bellcranks for cracks, deformation, and missing/incomplete welds; and

—If cracks, deformation, or missing/incomplete welds are found, the AD would require you to immediately replace the bellcrank or temporarily incorporate certain flap limitations.

How Does the Revision to 14 CFR Part 39 Affect This Proposed AD?

On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How Many Airplanes Would This Proposed AD Impact?

We estimate that this proposed AD affects 1,300 airplanes in the U.S. registry.

What Would Be the Cost Impact of This Proposed AD on Owners/Operators of the Affected Airplanes?

For the proposed actions retained from AD 2003-21-04, and the addition of all bellcranks to the applicability, we estimate the following costs to do this proposed inspection:

Labor cost | Parts cost | Total cost per airplane | Total cost on U.S. operators
2 workhours × $65 per hour = $130 | No cost for parts. | $130 | $130 × 1,300 for = $169,000.

We estimate the following costs to do any necessary replacements of the right inboard forward flap bellcrank (P/N 2622311-7, alternate P/N 2622311-16) that would be required based on the results of this proposed inspection. We have no way of determining the number of airplanes that may need this replacement:

Labor cost | Parts cost | Total cost per airplane
3 workhours × $65 per hour = $195 | $1,845 | $195 + $1,845 = $2,040.

We estimate the following costs to do any necessary replacements of the left inboard forward flap bellcrank (P/N 2622281-1) that would be required based on the results of this proposed inspection. We have no way of determining the number of airplanes that may need this replacement:

Labor cost | Parts cost | Total cost per airplane
1 workhour × $65 per hour = $65 | $1,201 | $65 + $1,201 = $1,266.

We estimate the following costs to do any necessary replacements of the right inboard aft flap bellcrank (P/N 2622267-8) that would be required based on the results of this proposed inspection. We have no way of determining the number of airplanes that may need this replacement:

Labor cost | Parts cost | Total cost per airplane
1 workhour × $65 per hour = $65. | $1,273 | $65 + $1,273 = $1,338.

We estimate the following costs to do any necessary replacements of the left inboard aft flap bellcrank (P/N 2622267-7) that would be required based on the results of this proposed inspection. We have no way of determining the number of airplanes that may need this replacement:

Labor cost | Parts cost | Total cost per airplane
1 workhour × $65 per hour = $65. | $2,098 | $65 + $2,098 = $2,163.

We estimate the following costs to do any necessary replacements of the left outboard flap bellcrank (P/N 2622091-17) that would be required based on the results of this proposed inspection. We have no way of determining the number of airplanes that may need this replacement:

Labor cost | Parts cost | Total cost per airplane
1 workhour × $65 per hour = $65. | $627 | $65 + $627 = $692.

We estimate the following costs to do any necessary replacements of the right outboard flap bellcrank (P/N 2622091-18) that would be required based on the results of this proposed inspection. We have no way of determining the number of airplanes that may need this replacement:

Labor cost | Parts cost | Total cost per airplane
1 workhour × $65 per hour = $65. | $661 | $65 + $661 = $726.

For the proposed requirements from AD 2002-22-17 that you repetitively inspect the inboard forward flap bellcranks for cracks, eventually replace these bellcranks, and provides the option of installing the new design flap bellcrank to increase the life limits and terminate the repetitive inspections, we estimate the following costs to do the proposed inspection:

Labor cost | Parts cost | Total cost per airplane | Total cost on U.S. operators
1 workhour × $65 per hour = $65. | No cost for parts. | $65 | $65 × 1,300 = $84,500.

We estimate the following costs to do any proposed replacements using the same flap bellcrank (P/N 2622281-2, 2622281-12, 2692001-2, or FAA-approved equivalent P/N) that will be required based on the proposed inspection or the reduced life limits:

Labor cost | Parts cost | Total cost per airplane | Total cost on U.S. operators
3 workhours × $65 per hour = $195. | $1,793 | $195 + $1,793 = $1,988 | $1,988 × 1,300 = $2,584,400.

We estimate the following costs to do any proposed replacements using the new flap bellcrank (P/N 2622311-7 or FAA-approved equivalent P/N) that will be required based on the proposed inspection or the reduced life limits. We have no way of determining the number of airplanes that may need this proposed replacement with the new flap bellcrank:

Labor cost | Parts cost | Total cost per airplane
3 workhours × $65 per hour = $195. | $1,845 | $195 + $1,845 = $2,040.

What Is the Difference Between the Cost Impact of This Proposed AD and the Cost Impacts of AD 2003-21-04 and AD 2002-22-17?

AD 2003-21-04 already established the inspection and replacement of the right inboard forward flap bellcrank assembly on the affected airplanes. Therefore, the replacement is already required through that AD. The only difference in the cost impact on the public of this proposed AD and AD 2003-21-04 is the additional cost for the inspection of all other bellcranks, and, if necessary, replacement.

AD 2002-22-17 already established the life limit for the flap bellcrank (P/N 2622281-2, 2622281-12, 2692001-2, or FAA-approved equivalent P/N) on the affected airplanes. Therefore, the replacement is already required through that AD. The only difference in the cost impact upon the public of this AD and AD 2002-22-17 is the additional $52 cost difference for the new flap bellcrank.

Regulatory Findings

Would This Proposed AD Impact Various Entities?

We have determined that this proposed AD would not have federalism implications under Executive Order 13132. This proposed AD would not have a substantial direct effect on the States, on the relationship between the national government and the States, or on the distribution of power and responsibilities among the various levels of government.

Would This Proposed AD Involve a Significant Rule or Regulatory Action?

For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket No. 2002-CE-23-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing both Airworthiness Directive (AD) 2002-22-17, Amendment 39-12944, and AD 2003-21-04, Amendment 39-13339; and by adding the following new AD:

Cessna Aircraft Company: Docket No. 2002-CE-23-AD

When Is the Last Date I Can Submit Comments on This Proposed AD?

(a) We must receive comments on this proposed airworthiness directive (AD) by May 17, 2004.

What Other ADs Are Affected By This Action?

(b) This AD supersedes AD 2002-22-17 and AD 2003-21-04.

What Airplanes Are Affected by This AD?

(c) This AD affects the following airplane models and serial numbers that are certificated in any category:

(1) Group 1 (retains the actions from AD 2003-21-04, and adds all flap bellcranks to the applicability):

Model | Serial Numbers
208 | 20800001 through 20800369.
208B | 208B0001 through 208B1014, 208B1017, 208B1018, 208B1020 through 208B1024, 208B1026, and 208B1029 through 208B1033.

(2) Group 2 (retains the requirement of AD 2002-22-17 that you repetitively inspect the inboard forward flap bellcranks for cracks, eventually replace these bellcranks, and provides the option of installing the new design flap bellcrank to increase the life limits and terminate the repetitive inspections): Models 208 and 208B airplanes, all serial numbers.

What Is the Unsafe Condition Presented in This AD?

(d) The actions specified in this AD are intended to prevent failure of any bellcrank due to cracks, deformation, or missing/incomplete welds. This failure could lead to damage to the flap system and surrounding structure and result in reduced or loss of control of the airplane.

What Must I Do To Address This Problem for Group 1 Airplanes?

(e) To address this problem for Group 1 airplanes, you must do the following:

Actions | Compliance | Procedures
(1) Inspect the right inboard forward flap bellcrank assembly for cracks, deformation, and missing/incomplete welds. The affected flap bellcrank incorporates one of the following part numbers (P/N): (i) P/N 2622083-18; (ii) P/N 2622281-2; (iii) P/N 2692001-2; or (iv) P/N 2622281-12. | Within the next 25 landings after October 21, 2003 (the effective date of AD 2003-21-04). If landings are unknown, then you may multiply hours time-in-service (TIS) by 1.25. For the purposes of this AD, you may substitute 20 hours TIS for 25 landings | Use a flashlight and a mirror as necessary to see if welds (1), (4), (5), and (6) exist and are at least 0.06-inch thick around the full circumference of the shaft. These welds and the inspection procedures are referenced in Figure 1, details A, B, and C; and Views A-A and B-B of Cessna Caravan Service Bulletin CAB03-11, Revision 1, dated September 24, 2003.
(2) Inspect the left inboard forward bellcrank for cracks, deformation, and missing/incomplete welds. The affected flap bellcrank incorporates one of the following part P/Ns: (i) P/N 2622083-15; or (ii) P/N 2622281-1. | Within the next 25 landings after the effective date of this AD. If landings are unknown, then you may multiply hours TIS by 1.25. For the purposes of this AD, you may substitute 20 hours TIS for 25 landings | Use a flashlight and a mirror as necessary to see if welds (1) through (4) exist and are at least 0.06-inch thick around the full circumference of the shaft. These welds and the inspection procedures are referenced in Figure 2, details A, B, and C; and Views A-A and B-B of Cessna Caravan Service Bulletin CAB03-11, Revision 1, dated September 24, 2003.
(3) Inspect the inboard aft bellcrank for cracks, deformation, and missing/incomplete welds. The affected flap bellcrank incorporates one of the following P/Ns: (i) P/N 2622267-1; or (ii) P/N 2622267-2; (iii) P/N 2622267-7; (iv) P/N 2622267-8; (v) P/N 2622083-1; or (vi) P/N 2622083-2. | Within the next 25 landings after the effective date of this AD. If landings are unknown, then you may multiply hours TIS by 1.25. For the purposes of this AD, you may substitute 20 hours TIS for 25 landings | Use a flashlight and a mirror as necessary to see if welds (1), (2), (4), and (5) exist and are at least 0.05-inch thick around the full circumference of the shaft. These welds and the inspection procedures are referenced in Figure 3, details A, B, and C; and Views A-A and B-B of Cessna Caravan Service Bulletin CAB03-11, Revision 1, dated September 24, 2003.
(4) Inspect the outboard bellcrank for cracks, deformation, and missing/incomplete welds. The affected flap bellcrank incorporates one of the following P/Ns: (i) P/N 2622091-1; or (ii) P/N 2622091-2; (iii) P/N 2622091-9; (iv) P/N 2622091-10; (v) P/N 2622091-17; or (iv) P/N 2622091-18. | Within the next 25 landings after the effective date of this AD. If landings are unknown, then you may multiply hours TIS by 1.25. For the purposes of this AD, you may substitute 20 hours TIS for 25 landings | Use a flashlight and a mirror as necessary to see if welds (1) through (4) exist and are at least 0.05-inch thick around the full circumference of the shaft. These welds and the inspection procedures are referenced in Figure 4, details A, B, and C; and Views A-A and B-B of Cessna Caravan Service Bulletin CAB03-11, Revision 1, dated September 24, 2003.
(5) If you find cracks, deformation, or missing/incomplete welds during the inspection required by paragraphs (e)(1) through (e)(4) of this AD, then do one of the following: (i) Replace the bellcrank with a new bellcrank; or (ii) Prohibit the use of flaps through the actions of paragraph (g) of this AD. | Replace or do the flap prohibition actions before further flight after the inspection required in paragraphs (e)(1) through (e)(4) of this AD. If you choose the flap prohibition, you must have the replacement done within 200 hours TIS after the inspection required by paragraphs (e)(1) through (e)(4) of this AD. After the new flap bellcrank is installed, the Temporary Revision 208PHTR02, dated September 23, 2003, should be removed | Replacement: Use the Accomplishment Instructions of Cessna Caravan Service Bulletin No.: CAB02-12, Revision 1, dated January 27, 2003, and the Accomplishment Instructions of Cessna Caravan Service Kit No.: SK208-148A, dated January 27, 2003, or refer to the Maintenance Manual, Chapter 27, Flap System—Maintenance Practices, for bellcrank removal and installation procedures Flap Prohibition: Use the information in the Temporary Revision 208PHTR02, dated September 23, 2003. The action is referenced in Cessna Caravan Service Bulletin CAB03-11, Revision 1, dated September 24, 2003.

What Must I Do To Address This Problem for Group 2 Airplanes?

(f) To address this problem for Group 2 airplanes, you must do the following:

Actions | Compliance | Procedures
(1) Repetitive Inspections: Inspect, using eddy current methods, any inboard forward flap bellcrank P/N 2622281-2, 2622281-12, 2692001-2, or FAA-approved equivalent P/N) for cracks | Initially inspect upon the accumulation of 4,000 landings on the bellcrank or within the next 250 landings after December 31, 2002 (the effective date of AD 2002-22-17), whichever occurs later. Repetitively inspect thereafter at every 500 landings until 7,000 landings are accumulated at which time you must replace as required in paragraphs (f)(2) and (f)(3) of this AD. No repetitive inspections are required when a P/N 2622311-7 (or FAA-approved equivalent P/N) inboard forward flap bellcrank is installed | Follow the Inspection Instructions of Cessna Caravan Service Bulletin No.: CAB02-1, dated February 11, 2002, and the applicable maintenance manual.
(2) Initial Replacement: Replace any inboard forward flap bellcrank (P/N 2622281-2, 2622281-12, 2692001-2, or FAA-approved equivalent P/N) with either: (i) the same flap bellcrank (P/N 2622281-2, 2622281-12, 2692001-2, or FAA-approved equivalent P/N); or (ii) a new flap bellcrank (P/N 2622311-7 or FAA-approved equivalent P/N). | If cracks are found, replace or do the flap prohibition actions before further flight after the inspection required in paragraphs (f)(1) of this AD. If you choose the flap prohibition, you must have the replacement done within 200 hours TIS after the inspection required by paragraphs (f)(1) of this AD. After the new flap bellcrank is installed, the Temporary Revision 208PHTR02, dated September 23, 2003, should be removed. If cracks are not found, initially replace at whichever occurs later: Upon the accumulation of 7,000 landings on the bellcrank or within the next 75 landings after December 31, 2002 (the effective date of AD 2002-22-17) | Replacement: For flap bellcrank (P/N 2622281-2, 2622281-12, 2692001-2, or FAA-approved equivalent P/N): Follow the Instructions of Cessna Caravan Service Bulletin No.: CAB02-1, dated February 11, 2002, and the applicable maintenance manual. For new flap bellcrank (P/N 2622311-7 or FAA-approved equivalent P/N): Follow the Accomplishment Instructions of Cessna Caravan Service Bulletin No.: CAB02-12, Revision 1, dated January 27, 2003, and the Accomplishment Instructions of Cessna Caravan Service Kit No. SK203-148A, dated January 27, 2003. Flap Prohibition: Use the information in the Temporary Revision 208PHTR02, dated September 23, 2003.
(3) Life Limits (Repetitive Replacements): (i) The life limit for the inboard forward flap bellcranks (P/N 2622281-2, 2622281-12, 2692001-2, or FAA-approved equivalent P/N) is 7,000 landings. Repetitive inspections every 500 landings begin at 4,000 landings (see paragraph (f)(1) of this AD). (ii) The life limit for the inboard forward flap bellcranks (P/N 26222311-7 or FAA-approved equivalent P/N) is 40,000 landings. No repetitive inspections are required on these bellcranks. | Replace at the applicable referenced life limits | Use the service information referenced in paragraph (f)(2) of this AD.

Note 1: Inboard forward flap bellcranks (P/N 2622281-2, 2622281-12, or 2692001-2) with 7,000 landings or more do not have to be replaced until 75 landings after December 31, 2002 (the effective date of AD 2002-22-17), unless found cracked.

Note 2: The compliance times of this AD are presented in landings instead of hours TIS. If the number of landings is unknown, hours TIS may be used by multiplying the number of hours TIS by 1.25.

What Are the Actions I Must Do if I Choose the Flap Prohibition Option?

(g) Insert Temporary Revision, 208PHTR02, dated September 23, 2003, into the applicable pilot's operating handbook and FAA-approved airplane flight manual. The owner/operator holding at least a private pilot certificate as authorized by § 43.7 of the Federal Aviation Regulations (14 CFR 43.7) may incorporate this information into the AFM. Make an entry into the aircraft records showing compliance with this portion of the AD in accordance with section 43.9 of the Federal Aviation Regulations (14 CFR 43.9).

(1) This procedure applies to Cessna Models 208 and 208B landplanes. For other FAA-approved aircraft configurations (for example, amphibian, floatplanes, and so forth), you must operate with flaps up per the appropriate airplane flight manual supplement.

(2) This procedure allows for applicable deviation from the Master Minimum Equipment List (MMEL) for these airplanes until the flap bell crank is replaced. The applicable MMEL requirements go back into effect at the time of flap bell crank replacement.

May I Request an Alternative Method of Compliance?

(h) You may request a different method of compliance or a different compliance time for this AD by following the procedures in 14 CFR 39.13. Send your request to the Manager, Wichita Aircraft Certification Office (ACO), FAA. For information on any already approved alternative methods of compliance, contact Paul Nguyen, Aerospace Engineer, FAA, Wichita ACO, 1801 Airport Road, Room 100, Wichita, Kansas 67209; telephone: 316-946-4125; facsimile: 816-946-4107.

(i) Alternative methods of compliance approved under AD 2002-22-17 and AD 2003-21-04 are not approved for this AD.

May I Get Copies of the Documents Referenced in This AD?

(j) You may get copies of the documents referenced in this AD from Cessna Aircraft Company, Product Support, P.O. Box 7706, Wichita, Kansas 67277; telephone: (316) 517-5800; facsimile: (316) 942-9006. You may view these documents at FAA, Central Region, Office of the Regional Counsel, 901 Locust, Room 506, Kansas City, Missouri 64106.

Issued in Kansas City, Missouri, on March 2, 2004.
Sandra J. Campbell,
Acting Manager, Small Airplane Directorate, Aircraft Certification Service.

[FR Doc. 04-5130 Filed 3-5-04; 8:45 am]

BILLING CODE 4910-13-P